DEPARTMENT OF HEALTH AND HUMAN SERVICES

Centers for Disease Control and Prevention

[30Day-25-1447]

Agency Forms Undergoing Paperwork Reduction Act Review

In accordance with the Paperwork Reduction Act of 1995, the Centers for Disease Control and Prevention (CDC) has submitted a Change Request for the information collection request titled “Generic Clearance for the Collection of Minimal Data Necessary for Case Data During an Emergency Response” to the Office of Management and Budget (OMB) for review and approval.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Generic Clearance for the Collection of Minimal Data Necessary for Case Data During an Emergency Response (OMB Control No. 0920-1447, Exp. 10/31/2027)—Change Request—Office of Public Health Data, Surveillance, and Technology (OPHDST), Centers for Disease Control and Prevention (CDC).

Background and Brief Description

The Generic Clearance for the Collection of Minimal Data Necessary for Case Data During an Emergency Response is a Generic Information Collection Request (ICR) that is designed to facilitate standardized, rapid, and consistent data exchange between state, tribal, local, and territorial (STLT) health departments and CDC on confirmed, probable, and suspected cases during a public health emergency response.

CDC requests approval for a Non-Substantive Change Request for the Generic Clearance for the Collection of Minimal Data Necessary for Case Data During an Emergency Response. This request includes addition of the following 11 new data elements: Age Units—Other, Race Category—Other, Ethnic Group—Other, Person Address County—Other, Person Address State—Other, Case Disease Imported Code—Other, Disability Type—Other, Outbreak Case Status, CDC Outbreak Name, First Date of Exposure, and Last Date of Exposure.

Seven of the 11 added data elements are ‘other’ data elements. These data elements are associated with a coded data element of a similar name (e.g., Age Units and Age Units Other). These added fields give jurisdictions the option to send either coded data elements in the coded field or text data in the text field. This makes it easier for jurisdictions as they do not need to map to the CDC value set in order for data to be sent. First and Last Date of Exposure are important data elements to collect as understanding the time from exposure to symptom onset or infection provides important information for responding to and modeling outbreaks. Outbreak Case Status is critical as a definition of a case can differ in an outbreak and in routine data collection and it is very important to know whether a case meets the outbreak definition in addition to whether the case meets the routine definition. CDC Outbreak Name is important so that outbreaks that cross state lines can be tracked as a single outbreak, whereas the previously approved ‘Case Outbreak Name’ is state-assigned and could differ for the same outbreak.

CDC projects 10 emergency responses annually that will require states, territories, freely associated states, and cities to submit case data to CDC daily. The annual burden estimates below include the time that states, territories, freely associated states, and cities will incur to submit confirmed, probable, and suspected case data (MDN and response-specific data elements) for diseases or conditions for 10 emergency responses. The average burden per response of 30 minutes is the same regardless of the number of data elements. The number of data elements will fluctuate by emergency response since each emergency response may require a different number of response-specific data elements depending on the condition. Therefore, the addition of 11 new data elements will not affect the affect the previously approved burden. The estimated annual burden for the 60 respondents is 109,510 hours.

Estimated Annualized Burden Hours
Type of respondent | Form name | Number of respondents | Number of responses per respondent | Average burden per response (in hours)
States | Submission of case data | 50 | 3,650 | 30/60
Territories | Submission of case data | 5 | 3,650 | 30/60
Freely Associated States | Submission of case data | 3 | 3,650 | 30/60
Cities | Submission of case data | 2 | 3,650 | 30/60

Jeffrey M. Zirger,
Lead, Information Collection Review Office, Office of Public Health Ethics and Regulations, Office of Science, Centers for Disease Control and Prevention.

[FR Doc. 2025-12846 Filed 7-9-25; 8:45 am]

BILLING CODE 4163-18-P